COMMODITY FUTURES TRADING

Sunshine Act Notice

TIME AND DATE: 11:00 a.m., Friday, March 1, 2002.

PLACE: 1155 21st St., N.W., Washington, DC, 9th Floor Conference Room.

STATUS: Closed.

MATTERS TO BE CONSIDERED: Surveillance Matters.

CONTACT PERSON FOR MORE INFORMATION: Jean A. Webb, 202-418-5100.

Jean A. Webb,
Secretary of the Commission.

[FR Doc. 02-4236 Filed 2-19-02; 10:36 am]

BILLING CODE 6351-01-M